ENVIRONMENTAL PROTECTION AGENCY

[EPA-HQ-OAR-2013-0691; FRL-11707]

Agency Information Collection Activities; Submission to the Office of Management and Budget for Review and Approval; Comment Request; Implementation of the Fine Particulate Matter (PM2.5) National Ambient Air Quality Standards (Renewal)

AGENCY: Environmental Protection Agency (EPA).

ACTION: Notice.

SUMMARY: The Environmental Protection Agency (EPA) has submitted an information collection request (ICR), Implementation of the Fine Particulate Matter (PM2.5) National Ambient Air Quality Standards (EPA ICR Number 2258.06; OMB Control Number 2060-0611) to the Office of Management and Budget (OMB) for review and approval in accordance with the Paperwork Reduction Act. This is a proposed extension of the ICR, which is currently approved through January 31, 2024. Public comments were previously requested via the Federal Register on August 15, 2023, during a 60-day comment period. This notice allows for an additional 30 days for public comments.

DATES: Comments may be submitted on or before February 29, 2024.

ADDRESSES: Submit your comments, referencing Docket ID Number EPA-HQ-OAR-2013-069, to EPA online using www.regulations.gov (our preferred method), by email to a-and-r-docket@epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Ms. Leigh Herrington, Office of Air Quality Planning and Standards, U.S. Environmental Protection Agency, Mailcode C539-01, Post Office Box 12055, Research Triangle Park, NC 27711; telephone number: (919) 541-0882; fax number: (919) 541-2225; email address: herrington.leigh@epa.gov.

SUPPLEMENTARY INFORMATION: This is a proposed extension of the ICR, which is currently approved through January 31, 2024. An agency may not conduct or sponsor and a person is not required to respond to a collection of information unless it displays a currently valid OMB control number.

Public comments were previously requested via the Federal Register on August 15, 2023, during a 60-day comment period (88 FR 55453). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is (202) 566-1744. For additional information about EPA's public docket, visit http://www.epa.gov/dockets.

Abstract: The PM2.5 NAAQS State Implementation Plan (SIP) Requirements Rule (PM2.5 SIP Requirements Rule) was effective on October 24, 2016 (81 FR 58010, August 24, 2016). This rule provides the framework of Clean Air Act (CAA) requirements for air agencies to develop state implementation plans to attain and maintain the PM2.5 NAAQS. States have applied this framework to develop attainment plans and redesignation requests and maintenance plans for areas designated nonattainment for the 1997 PM2.5 NAAQS, the 2006 PM2.5 NAAQS, and the 2012 PM2.5 NAAQS. This proposed ICR renewal covers the period February 1, 2024-January 31, 2027.

The initial ICR finalized with the PM2.5 NAAQS SIP Requirements Rule estimated, for the 3 years following the ICR approval date, the burden associated with plan development and plan revisions related to ongoing implementation efforts in 31 areas designated nonattainment for the 1997, 2006 and/or 2012 PM2.5 NAAQS. The estimates included the burden to develop and submit, and the burden to the EPA to review and to approve or disapprove, attainment plans to meet the requirements prescribed in CAA sections 110 and part D, subparts 1 and 4 of title I. A PM2.5 NAAQS attainment plan contains rules and other measures designed to improve air quality and achieve the NAAQS by the deadlines established under the CAA. It also must address several additional CAA requirements related to demonstrating timely attainment and must contain contingency measures in the event the nonattainment area does not achieve reasonable further progress throughout the attainment period or in the event the area does not attain the NAAQS by its attainment date. States that have attained by the applicable attainment date may be eligible to submit a redesignation request and maintenance plan to receive a redesignation from “nonattainment” to “attainment.” After a state submits an attainment or maintenance plan, the CAA requires the EPA to take action on the plan. Tribes located within the geographic boundary of a nonattainment area may develop or submit attainment plans, but they are not required to do so.

This ICR supersedes the existing ICR—for which the EPA is proposing renewal in this action—for purposes of PM2.5 NAAQS implementation.

Form Numbers: None.

Respondents/affected entities: State and local governments.

Respondent's obligation to respond: Mandatory.

Estimated number of respondents: 12.

Frequency of response: Once per triggering event (i.e., an air agency is required to revise and submit a SIP revision when the area is initially designated as nonattainment, reclassified to a higher classification, when an areas fails to achieve reasonable further progress, when a Serious nonattainment area fails to timely attain, and/or when a state requests redesignation for a PM2.5 nonattainment area that attains the NAAQS).

Total estimated burden: 24,900 hours (per year). Burden is defined at 5 CFR 1320.03(b).

Total estimated cost: $1.76M (present value per year), which includes $0 annualized capital or operation & maintenance costs.

Changes in the Estimates: There is a decrease of 1800 hours of total estimated respondent burden compared with the ICR currently approved by OMB. This decrease is due to the reduction in nonattainment areas from 18 to 12. While the hours decreased due to the fewer number of respondents, there is a present-day value increase in estimated costs due to the increase in labor rates and the need for several areas to continue to develop plans to help address complex air quality issues.

Courtney Kerwin,
Director, Regulatory Support Division.

[FR Doc. 2024-01806 Filed 1-29-24; 8:45 am]

BILLING CODE 6560-50-P